DEPARTMENT OF COMMERCE

National Oceanic and Atmospheric Administration

Ocean Research Advisory Panel (ORAP)

AGENCY: National Oceanic and Atmospheric Administration (NOAA), Department of Commerce (DOC).

ACTION: Notice of public meeting.

SUMMARY: This notice sets forth the schedule and proposed agenda of a meeting of the Ocean Research Advisory Panel (ORAP). The members will discuss issues outlined in the section on Matters to be Considered.

DATES: The meeting is scheduled for September 4, 2024 from 9 a.m. to 5 p.m. Hawaii standard time (HST) and September 5, 2024 from 8:30 a.m. to 12:30 p.m. HST. These times and the agenda topics described below are subject to change.

For the latest agenda please refer to the ORAP website: https://www.noaa.gov/ocean-research-advisory-panel/orap-public-meetings.

ADDRESSES: The September 4-5, 2024 meeting will be at the Hawai'i Imin International Conference Center, 1777 East-West Road, Honolulu, Hawai'i 96848. The link for the webinar registration will be posted, when available, on the ORAP website: https://www.noaa.gov/ocean-research-advisory-panel/orap-public-meetings.

FOR FURTHER INFORMATION CONTACT: Viviane Silva, ORAP Designated Federal Officer (DFO), SSMC3, Room 11320, 1315 East-West Hwy., Silver Spring, MD 20910; Phone Number: 240-624-0656; Email: DFO.orap@noaa.gov; or visit the ORAP website at https://www.noaa.gov/ocean-research-advisory-panel/orap-public-meetings.

SUPPLEMENTARY INFORMATION: The Ocean Research Advisory Panel (ORAP) advises the Ocean Policy Committee (OPC) and provides independent recommendations to the Federal Government on matters of ocean policy.

Congress directed the establishment of the ORAP in section 1055(c) of the William M. (Mac) Thornberry National Defense Authorization Act for Fiscal Year 2021 (Pub. L. 116-283), 10 U.S.C. 8933.

ORAP's responsibilities are (1) to advise the OPC on policies and procedures to implement the National Oceanographic Partnership Program; (2) to advise the OPC on matters relating to national oceanographic science, engineering, facilities, or resource requirements; (3) to advise the OPC on improving diversity, equity, and inclusion in the ocean sciences and related fields; (4) to advise the OPC on national ocean research priorities; and (5) any additional responsibilities that the OPC considers appropriate.

Status: The September 4-5, 2024 meeting will be open to public participation with a 30-minute public comment period at 3:15 p.m. HST on September 4th. The ORAP expects that public statements presented at its meetings will not be repetitive of previously submitted verbal or written statements. In general, each individual or group making a verbal presentation will be limited to a total time of three-five minutes. Written comments for the September 4-5, 2024 meeting should be received by August 19, 2024 by the ORAP DFO (DFO.orap@noaa.gov) to provide sufficient time for ORAP review. Written comments received by the ORAP DFO after this date will be distributed to the ORAP, but may not be reviewed prior to the meeting date.

Special Accommodations: These meetings are physically accessible to people with disabilities. Requests for special accommodations may be directed to the ORAP DFO no later than 12 p.m. EDT on August 19, 2024.

Matters to be Considered: During the ORAP meeting on Dec. 13-14, 2023, the Ocean Policy Committee (OPC) requested that the ORAP advise on areas of opportunity for partnership (such as through the National Oceanic Partnership Program) on the topic of emerging technology (which could include Artificial Intelligence/Machine Learning, eDNA, and similar technology) with ocean industry and other sectors over the next 5-10 years. The OPC also requested that ORAP self-select another topic to address. The ORAP members agreed that the topic of accessible, inter-operable, interdisciplinary, and trusted ocean data to meet research and user needs is critical and deserves ORAP immediate attention. At this meeting on September 4-5, 2024, ORAP members will hear from the ORAP subgroups on the two OPC tasks progress and hear from Native Hawaiian and Pacific Islander communities on Indigenous perspectives, knowledge, and practices related to the Ocean, in particular, insights on emerging technology and data.

Meeting materials, including work products, will be made available on the ORAP website: https://www.noaa.gov/ocean-research-advisory-panel/orap-public-meetings.

Dated: July 16, 2024.
David Holst,
Director Chief Financial Officer/CAO, Office of Oceanic and Atmospheric Research, National Oceanic and Atmospheric Administration.

[FR Doc. 2024-17226 Filed 8-2-24; 8:45 am]

BILLING CODE 3510-KD-P